DEPARTMENT OF THE INTERIOR

National Park Service

[NPS-WASO-NAGPRA-NPS0039325; PPWOCRADN0-PCU00RP14.R50000]

Notice of Intended Disposition: U.S. Department of Agriculture, Forest Service, Nebraska National Forests and Grasslands, Chadron, NE

AGENCY: National Park Service, Interior.

ACTION: Notice.

SUMMARY: In accordance with the Native American Graves Protection and Repatriation Act (NAGPRA), the U.S. Department of Agriculture, Forest Service, Nebraska National Forests and Grasslands intends to carry out the disposition of human remains and an associated funerary object removed from Federal or Tribal lands to the lineal descendants, Indian Tribe, or Native Hawaiian organization with priority for disposition in this notice.

DATES: Disposition of the human remains associated funerary object in this notice may occur on or after February 18, 2025. If no claim for disposition is received by January 16, 2026, the human remains and associated funerary object in this notice will become unclaimed human remains and associated funerary object.

ADDRESSES: Jack Isaacs, Nebraska National Forests and Grasslands, Forest Supervisor, 125 North Main Street, Chadron, NE 69337, telephone (308) 430-1379, email jack.isaacs@usda.gov.

SUPPLEMENTARY INFORMATION: This notice is published as part of the National Park Service's administrative responsibilities under NAGPRA. The determinations in this notice are the sole responsibility of the Nebraska National Forests and Grasslands, and additional information on the human remains and associated funerary object in this notice, including the results of consultation, can be found in the related records. The National Park Service is not responsible for the identifications in this notice.

Abstract of Information Available

Based on the information available, human remains representing, at least, one individual has been reasonably identified. The one associated funerary object is a projectile point. On November 17, 2021, in Sioux County, Nebraska human remains (a skull with teeth, two small bones, a long bone, two femur bones and two long slender bones) and a single associated cultural item (projectile point) were removed. Part of the burial remains in situ and will be removed so the remains of the ancestor can be reunited per the wishes of the Tribe listed in this notice.

Determinations

The Nebraska National Forests and Grasslands has determined that:

• The human remains described in this notice represent the physical remains of one individual of Native American ancestry.

• The one object described in this notice are reasonably believed to have been placed intentionally with or near individual human remains at the time of death or later as part of the death rite or ceremony.

• The Oglala Sioux Tribe has priority for disposition of the human remains and associated funerary object described in this notice.

Claims for Disposition

Written claims for disposition of the human remains and associated funerary object in this notice must be sent to the appropriate official identified in this notice under ADDRESSES. If no claim for disposition is received by January 16, 2026, the human remains and associated funerary object in this notice will become unclaimed human remains and associated funerary object. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary object in this notice may occur on or after February 18, 2025. If competing claims for disposition are received, the Nebraska National Forests and Grasslands must determine the most appropriate claimant prior to disposition. Requests for joint disposition of the human remains and associated funerary object are considered a single request and not competing requests. The Nebraska National Forests and Grasslands is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 6, 2025.
Melanie O'Brien,
Manager, National NAGPRA Program.

[FR Doc. 2025-01016 Filed 1-15-25; 8:45 am]

BILLING CODE 4312-52-P